DEPARTMENT OF LABOR

Employment and Training Administration

[TA-W-64,272]

The Nielsen Company (US), LLC, Fond Du Lac, WI; Notice of Negative Determination Regarding Application for Reconsideration

By application dated January 3, 2009, the petitioners requested administrative reconsideration of the Department's negative determination regarding eligibility to apply for Trade Adjustment Assistance (TAA) and Alternative Trade Adjustment Assistance (ATAA), applicable to workers and former workers of the subject firm. The denial notice was signed on November 21, 2008 and published in the Federal Register on December 10, 2008 (73 FR 75136).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative TAA determination issued by the Department for workers of the Nielsen Company (US), LLC, Fond Du Lac, Wisconsin was based on the finding that the worker group does not produce an article within the meaning of Section 222 of the Trade Act of 1974. The investigation revealed that workers of the subject firm compile databases derived from marketing surveys. The investigation further revealed that no production of article(s) occurred within the firm or appropriate subdivision during the relevant period.

The petitioner in the request for reconsideration contends that the Department erred in its interpretation of the work performed by the workers of the subject firm. The petitioner states that the workers of the subject firm “produce databases that are bought and paid for on a weekly basis”. The petitioner also indicates that even though they performed “computer jobs”, these “technical jobs” should be considered as production jobs.

The investigation revealed that the Nielsen Company is the marketing research organization that provides marketing research services to various manufacturers of consumer products or large retailers. No articles are produced within Nielsen Company. The workers of the Nielsen Company (US), LLC, Fond Du Lac, Wisconsin receive raw scanner data from the retailers, analyze the data and compile the information into the databases, which are used by clients on a syndicated basis so they can monitor how their products are being purchased in comparison to competing products in the marketplace. The workers of the subject firm support marketing research service functions of the Nielsen Company.

These functions, as described above, are not considered production of an article within the meaning of Section 222 of the Trade Act. While the provision of services may result in printed material or can be stored electronically, it is incidental to the provision of these services. Databases created by workers of the subject firm are used by the Nielsen Company as incidental to marketing research services provided by the subject firm. No production took place at the subject facility nor did the workers support production of an article at any domestic affiliated location during the relevant period.

The petitioner also alleges that job functions have been shifted from the subject firm overseas.

The company official confirmed that Product Reference coding functions were shifted to India. The allegation of a shift to another country might be relevant if it was determined that workers of the subject firm produced an article. However, the investigation determined that workers of Nielsen Company (US), LLC, Fond Du Lac, Wisconsin do not produce an article within the meaning of Section 222 of the Trade Act of 1974. Therefore, there are no imports of articles which negatively impacted workers of the subject firm.

Conclusion

After review of the application and investigative findings, I conclude that there has been no error or misinterpretation of the law or of the facts which would justify reconsideration of the Department of Labor's prior decision. Accordingly, the application is denied.

Signed in Washington, DC, this 4th day of February 2009.
Elliott S. Kushner,
Certifying Officer, Division of Trade Adjustment Assistance.

[FR Doc. E9-3730 Filed 2-20-09; 8:45 am]

BILLING CODE 4510-FN-P